DEPARTMENT OF ENERGY

Federal Energy Regulatory Commission

[Project No. P-13407-004]

Clean River Power MR-2, LLC; Notice of Application Accepted for Filing and Soliciting Comments, Motions To Intervene and Protest

Take notice that the following hydroelectric applications have been filed with the Commission and are available for public inspection.

a. Type of Applications: Amendment of License.

b. Project No.: 13407-004.

c. Date filed: May 23, 2017.

d. Applicant: Clean River Power MR-2, LLC, a subsidiary of Free Flow Power Corporation.

e. Name of Project: Lowell Lock and Dam Water Power Project.

f. Location: The proposed project would be located at the existing Lowell Lock and Dam on the Muskingum River in Washington County, West of the City of Lowell, Ohio. The lock and dam was formally owned and operated by the U.S. Army Corps of Engineers, but is currently owned and operated by the Ohio Department of Natural Resources, Division of Parks and Recreation.

g. Filed Pursuant to: Federal Power Act 16 U.S.C. 791a-825r.

h. Applicant Contacts: Ramya Swaminathan, Chief Operating Officer, Free Flow Power Corporation, 239 Causeway Street, Suite 300, Boston, MA 02114; (978) 283-2822, or by email at: Ramya@ryedevelopment.com.

i. FERC Contact: M. Joseph Fayyad (202) 502-8759, or by email at mo.fayyad@ferc.gov.

j. Deadline for filing comments, motions to intervene and protests is 30 days from the issuance of this notice by the Commission. The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13407-004.

k. Description of currently authorized project: The authorized but unconstructed project works consist of: (a) An existing 840-foot-long, 18-foot-high timber crib and concrete dam that contains a full-length, uncontrolled spillway having a crest elevation of 607.06 feet North American Vertical Datum of 1988; (b) an existing 628-acre impoundment with a volume of 4,492 acre-feet at the crest elevation of the dam; (c) a new 215-foot-long by 165-foot-wide by 23-foot-deep intake channel to be excavated upstream of the dam to convey flows to be used for generation into the powerhouse; (d) a new 37-foot-long by 80-foot-wide by 52-foot-high intake structure equipped with trashracks containing 2-inch clear bar spacing; (e) a new 160-foot-long by 75-foot-wide by 66-foot-high concrete powerhouse located immediately downstream of the dam on the north river bank containing two 2.5-megawatt horizontal Kaplan turbine/generator units; (f) a new 143.5-foot-long dam abutment located adjacent to the powerhouse to serve as an overflow weir to maintain the existing overflow capacity of the dam; (g) a new 100-foot-long by 125-foot-wide by 24-foot-deep tailrace channel located immediately downstream of the powerhouse to return flows exiting the powerhouse to the Muskingum River; (h) a new 40-foot-long by 40-foot-wide substation located adjacent to the north end of the dam; (i) a new 135-foot-long, 4.16-kilovolt (kV) transmission cable that connects the powerhouse to the substation; (j) a new 1,200-foot-long, 69-kV overhead transmission line that connects the substation to a local utility distribution line; (k) a new 150-foot-long access road and a new 1,800-square-foot parking lot located at the south end of the dam; and (l) appurtenant facilities.

l. Description of Amendment: The licensee proposes certain design changes to the project's works as follows: (1) Change the location of the project works form the north side to the south side of the dam; (2) the tailrace channel will be 255-foot-long by 170-foot-wide by 28-foot-deep; and (3) the transmission line will be a 150-foot-long, 4.16-kV transmission line that connects the powerhouse to the substation and a 2,375-foot-long, 69-kV transmission line that connects the substation to the local utility distribution line. Most of the 69-kV transmission line will be submerged behind the dam.

m. Location of the Application: A copy of the application is available for inspection and reproduction at the Commission's Public Reference Room, located at 888 First Street NE., Room 2A, Washington, DC 20426, or by calling (202) 502-8371. The filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above. Agencies may obtain copies of the application directly from the applicant.

n. Individuals desiring to be included on the Commission's mailing list should so indicate by writing to the Secretary of the Commission.

o. Comments, Motions to Intervene, or Protests: Anyone may submit comments, a motion to intervene, or a protest in accordance with the requirements of Rules of Practice and Procedure, 18 CFR 385.210, .211, and .214. In determining the appropriate action to take, the Commission will consider all protests or other comments filed, but only those who file a motion to intervene in accordance with the Commission's Rules may become a party to the proceeding. Any comments, motions to intervene, or protests must be received on or before the specified comment date for the particular application.

p. Filing and Service of Responsive Documents: Any filing must (1) bear in all capital letters the title “COMMENTS”, “MOTION TO INTERVENE”, or “PROTEST” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis. Any filing made by an intervener must be accompanied by proof of service on all persons listed in the service list prepared by the Commission in this proceeding, in accordance with 18 CFR 385.2010.

Dated: September 7, 2017.
Kimberly D. Bose,
Secretary.

[FR Doc. 2017-19567 Filed 9-14-17; 8:45 am]

BILLING CODE 6717-01-P